DEPARTMENT OF COMMERCE

Patent and Trademark Office

Event Planning

ACTION: Proposed collection; comment request.

SUMMARY: The United States Patent and Trademark Office (USPTO), as part of its continuing effort to reduce paperwork and respondent burden, invites the general public and other Federal agencies to comment on this new information collection, as required by the Paperwork Reduction Act of 1995, Public Law 104-13 (44 U.S.C. 3506(c)(2)(A)).

DATES: Written comments must be submitted on or before May 15, 2006.

ADDRESSES: You may submit comments by any of the following methods:

• E-mail: Susan.Brown@uspto.gov. Include “0651-00xx Event Planning comment” in the subject line of the message.

• Fax: 571-273-0112, marked to the attention of Susan Brown.

• Mail: Susan K. Brown, Records Officer, Office of the Chief Information Officer, Architecture, Engineering and Technical Services, Data Architecture and Services Division, U.S. Patent and Trademark Office, P.O. Box 1450, Alexandria, VA 22313-1450.

• Federal e-Rulemaking Portal: http://www.regulations.gov

FOR FURTHER INFORMATION CONTACT: Requests for additional information should be directed to Elizabeth Shaw, Office of External Affairs, United States Patent and Trademark Office (USPTO), P.O. Box 1451, Alexandria, VA 22313-1451; by telephone at 571-272-9300; or by e-mail at elizabeth.shaw2@uspto.gov.

SUPPLEMENTARY INFORMATION:

I. Abstract

The United States Patent and Trademark Office (USPTO) is responsible under 35 U.S.C. 2(A)(2) for the dissemination of patent and trademark information to the public. This information can include planning for long-term goals, outreach to independent inventors, assistance to small businesses, prevention of unlawful intellectual property practices, international trends, and cooperation between Intellectual Property entities, in addition to other types of information. The USPTO sponsors conferences, fairs, speaking engagements, and training seminars such as those offered under the Patent and Trademark Depository Library Program, as well as other events, to disseminate this information. In order to plan for these events, the USPTO must collect information from the attendees.

The USPTO plans to use an online registration screen available through the http://www.uspto.gov Web site for all of the event registrations. However, the USPTO believes that some of the PTDL registrations may still be submitted in paper. Online registration will standardize data collection for USPTO-sponsored events and provide for more efficient event planning. Attendees may complete forms for event registration online and e-mail them to the USPTO, or they may print, complete in ink, and mail the registrations to the USPTO. The USPTO has no plans to disseminate this information electronically or otherwise.

II. Method of Collection

Registrations for events other than the PTDLs can only be submitted using the online registration option. Registration for various PTDL events can be submitted electronically. The registrations can also be submitted by mail or by hand delivery if applicants choose to submit the information in paper form.

III. Data

OMB Number: 0651-00xx.

Form Number(s): No Form Numbers.

Type of Review: New collection.

Affected Public: Primarily business or other for-profit organizations, but also individuals or households; not-for-profit institutions; farms, Federal Government; and state, local or tribal Government.

Estimated Number of Respondents: 4,100 responses per year.

Estimated Time Per Response: The USPTO estimates that it will take the public approximately 5 minutes (0.08 hours) to complete this information, whether it is mailed to the USPTO or submitted electronically. This includes the time to gather the necessary information, complete the request, and submit it to the USPTO.

Estimated Total Annual Respondent Burden Hours: 328 hours per year.

Estimated Total Annual Respondent Cost Burden: $43,296. It is estimated that the respondent audience will be ⅓ attorneys, ⅓ paraprofessionals and members of the Patent and Trademark Depository Library Program, and ⅓ independent inventors, students, or other members of the public. Using a combination of the professional hourly rates of $286 for associate attorneys in private firms, $81 for paraprofessionals and members of the Patent and Trademark Depository Library Program, and $30 for independent inventors, students, and other members of the public, the USPTO is using an hourly rate of $132 to calculate the respondent costs. The USPTO estimates that the respondent cost burden for this collection will be $43,296 per year.

Item | Estimated time for response | Estimated annual responses | Estimated annual burden hours
Event Registrations (electronic) | 5 minutes | 4,000 | 320
PTDL Registrations (paper) | 5 minutes | 10 | 1
PTDL Registrations (electronic) | 5 minutes | 90 | 7
Total |  | 4,100 | 328

Estimated Total Annual Non-hour Respondent Cost Burden: $4. This collection does not have any capital start-up, maintenance, operation, or recordkeeping costs or filing fees associated with it. Customers can register for PTDL events electronically or they can print out the request, complete it, and mail it to the USPTO through the United States Postal Service. The USPTO estimates that 10 PTDL registrations will be submitted via first class mail. First class postage is 39 cents. Therefore, the USPTO estimates a total annual (non-hour) cost burden of $4 due to mailing costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: March 6, 2006.
Susan K. Brown,
Records Officer, U.S. Patent and Trademark Office, Office of the Chief Information Officer, Architecture, Engineering and Technical Services, Data Architecture and Services Division.

[FR Doc. E6-3561 Filed 3-13-06; 8:45 am]

BILLING CODE 3510-16-P